DEPARTMENT OF COMMERCE

National Oceanic and Atmospheric Administration

50 CFR Part 600

[Docket No. 1512-01999-6969-02]

RIN 0648-BF51

Standardized Bycatch Reporting Methodology

AGENCY: National Marine Fisheries Service (NMFS), National Oceanic and Atmospheric Administration (NOAA), Commerce.

ACTION: Final rule; delay of effective date.

SUMMARY: In accordance with the memorandum of January 20, 2017, from the Assistant to the President and Chief of Staff, entitled “Regulatory Freeze Pending Review,” published in the Federal Register on January 24, 2017 (the Memorandum), this action delays the effective date of the final rule NMFS published on January 19, 2017.

DATES: Effective February 8, 2017, the effective date of the final rule amending 50 CFR part 600, that published on January 19, 2017, at 82 FR 6317, is delayed to March 21, 2017.

FOR FURTHER INFORMATION CONTACT: Karen Abrams, 301-427-8508, or by email: karen.abrams@noaa.gov.

SUPPLEMENTARY INFORMATION: On January 19, 2017, NMFS published this final rule to interpret and provide guidance on the requirement of the Magnuson-Stevens Fishery Conservation and Management Act (MSA) that all fishery management plans (FMPs), with respect to any fishery, establish a standardized reporting methodology to assess the amount and type of bycatch occurring in a fishery. The final establishes requirements and provides guidance to regional fishery management councils and the Secretary of Commerce regarding the development, documentation, and review of such methodologies, commonly referred to as Standardized Bycatch Reporting Methodologies (SBRMs).

On January 20, 2017, the White House issued a memorandum instructing Federal agencies to temporarily postpone the effective date for 60 days after January 20, 2017, of any regulations or guidance documents that have been published in the Federal Register but not yet taken effect, for the purpose of “reviewing questions of fact, law, and policy they raise.” In accordance with this memorandum, this action delays the final rule NMFS published on January 19, 2017, at 82 FR 6317, until March 21, 2017.

List of Subjects in 50 CFR Part 600

Administrative practice and procedure, Bycatch, Fisheries, Standardized Reporting Methodology.

Dated: February 3, 2017.
Alan D. Risenhoover,
Acting Deputy Assistant Administrator for Regulatory Programs, National Marine Fisheries Service.

[FR Doc. 2017-02592 Filed 2-7-17; 8:45 am]

BILLING CODE 3510-22-P